DEPARTMENT OF DEFENSE

Department of the Navy

[Docket ID: USN-2022-HQ-0024]

Proposed Collection; Comment Request

AGENCY: Department of the Navy, Department of Defense (DoD).

ACTION: 60-Day information collection notice.

SUMMARY: In compliance with the Paperwork Reduction Act of 1995, the Naval Air Systems Command (NAVAIR) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 3, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to 390 San Carlos Rd., Ste. A, Pensacola, FL 32508-5508, ATTN: Navy Flight Demonstration Squadron, or call Ms. Sonya Martin at 703-614-7585.

SUPPLEMENTARY INFORMATION:

Title; Associated Form; and OMB Number: NAVAIRSYSCOM Yello Pro Application; OMB Control Number 0703-Yell.

Needs and Uses: The information collection, the Yellow Pro application, is necessary to provide a personalized candidate experience to every job seeker in NAVAIR, resulting in quality hires and faster fills. To support the sourcing and recruitment requirements for the command, NAVAIR utilizes Yello Pro to collect prospective candidates hiring information such as name, email, phone, education/experience, GPA, etc. along with their resume for hiring managers to review and consider when filling NAVAIR vacancies. Due to unprecedented hiring demand in 2017 and 2018, NAVAIR moved forward with a pilot of a Software-as-a-Service IT System product named Yello to meet mission demands. As part of the Yello IT System, the Yello Pro application was developed. It enables recruiters to collaborate to attract and engage top talent while providing vital command recruiting metrics that provide meaningful insights and lead to more strategic recruitment initiatives and outcomes. Additionally, it improves the ability to control access to candidate data and allows sanitization and aggregation to perform return on investment of recruiting efforts.

Affected Public: Individuals or households.

Annual Burden Hours: 605.

Number of Respondents: 7,256.

Responses per Respondent: 1.

Annual Responses: 7,256.

Average burden per Response: 5 minutes.

Frequency: On occasion.

Dated: July 28, 2022.
Kayyonne T. Marston,
Alternate OSD Federal Register Liaison Officer, Department of Defense.

[FR Doc. 2022-16520 Filed 8-1-22; 8:45 am]

BILLING CODE 5001-06-P